DEPARTMENT OF ENERGY

Federal Energy Regulatory Commission

Combined Notice of Filings #1

Take notice that the Commission received the following electric rate filings:

Docket Numbers: ER14-2897-001.

Applicants: Direct Energy Business, LLC.

Description: Tariff Amendment per 35.17(b): Amendment to 51 to be effective 10/10/2014.

Filed Date: 10/9/14.

Accession Number: 20141009-5246.

Comments Due: 5 p.m. ET 10/30/14.

Docket Numbers: ER14-2898-001.

Applicants: Direct Energy Marketing Inc.

Description: Tariff Amendment per 35.17(b): Amendment to 49 to be effective 10/10/2014.

Filed Date: 10/9/14.

Accession Number: 20141009-5238.

Comments Due: 5 p.m. ET 10/30/14.

Docket Numbers: ER14-2899-001.

Applicants: Direct Energy Services, LLC.

Description: Tariff Amendment per 35.17(b): Amendment to 48 to be effective 10/10/2014.

Filed Date: 10/9/14.

Accession Number: 20141009-5231.

Comments Due: 5 p.m. ET 10/30/14.

Docket Numbers: ER14-2901-001.

Applicants: Energy America, LLC.

Description: Tariff Amendment per 35.17(b): Amendment to 50 to be effective 10/10/2014.

Filed Date: 10/9/14.

Accession Number: 20141009-5220.

Comments Due: 5 p.m. ET 10/30/14.

Docket Numbers: ER15-69-000.

Applicants: Direct Energy Small Business, LLC.

Description: § 205(d) rate filing per 35.13(a)(2)(iii): Normal 2014 to be effective 10/10/2014.

Filed Date: 10/9/14.

Accession Number: 20141009-5232.

Comments Due: 5 p.m. ET 10/30/14.

Docket Numbers: ER15-70-000.

Applicants: Erie Power, LLC.

Description: Initial rate filing per 35.12 Erie Power Market Based Rate Tariff to be effective 12/9/2014.

Filed Date: 10/9/14.

Accession Number: 20141009-5254.

Comments Due: 5 p.m. ET 10/30/14.

Docket Numbers: ER15-71-000.

Applicants: Direct Energy Business Marketing, LLC.

Description: § 205(d) rate filing per 35.13(a)(2)(iii): Normal 2014 to be effective 10/10/2014.

Filed Date: 10/9/14.

Accession Number: 20141009-5256.

Comments Due: 5 p.m. ET 10/30/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2014.
Nathaniel J. Davis, Sr.,
Deputy Secretary.

[FR Doc. 2014-24888 Filed 10-17-14; 8:45 am]

BILLING CODE 6717-01-P